DEPARTMENT OF COMMERCE

National Oceanic and Atmospheric Administration

RIN 0648-XC435

New England Fishery Management Council (NEFMC); Public Meeting

AGENCY: National Marine Fisheries Service (NMFS), National Oceanic and Atmospheric Administration (NOAA), Commerce.

ACTION: Notice of a public meeting.

SUMMARY: The New England Fishery Management Council (Council) will hold a four-day meeting on January 28-31, 2013 to consider actions affecting New England fisheries in the exclusive economic zone (EEZ).

DATES: The meeting will be held on Monday, January 28, through Thursday, January 31, 2013. The meeting will begin at 1 p.m. on Monday, at 9 a.m. on Tuesday, and at 8:30 a.m. on both Wednesday and Thursday.

ADDRESSES: The meeting will be held at the Sheraton Portsmouth Harborside Hotel, 250 Market Street, Portsmouth, NH 03801; telephone: (603) 431-2300; fax: (603) 431-7805; or online at http://www.sheratonportsmouth.com/.

Council address: New England Fishery Management Council, 50 Water Street, Mill 2, Newburyport, MA 01950; telephone: (978) 465-0492.

FOR FURTHER INFORMATION CONTACT: Paul J. Howard, Executive Director, New England Fishery Management Council, (978) 465-0492.

SUPPLEMENTARY INFORMATION:

Monday, January 28, 2013

The New England Council will hold a closed session on Monday, January 28 from 1 p.m. to 5 p.m. to address employment matters.

Tuesday, January 29, 2013

Following introductions and any announcements on Tuesday, the Council will receive brief reports from the NEFMC Chairman and Executive Director, the Northeast Fisheries Science Center and Mid-Atlantic Fishery Management Council liaisons, NOAA General Counsel, representatives of the Atlantic States Marine Fisheries Commission, and staff from the regional Vessel Monitoring Systems Operations and NOAA Law Enforcement offices. The Council also will receive an update about Northeast Regional Ocean Council activities. Following these reports, NOAA's Northeast Regional Office staff will provide a presentation on a proposed offshore mussel aquaculture project off Cape Ann, MA and solicit comments or recommendations. The Monkfish Committee will update the Council about the development of Amendment 6. This report will include details about alternatives that would modify the current days-at-sea/trip limit system, incorporate monkfish into groundfish sectors and/or outline an Individual Transferable Quota (ITQ) program for the fishery. The Council may approve a request asking the NOAA Regional Administrator to provide feedback about the Northeast Regional Office's ability to provide timely data during the development a sector management or ITQ program for monkfish. Prior to a lunch break, the Northeast Regional Office will present a Draft Environmental Assessment on Standard Bycatch Reporting Methodology and also ask the Council and public for comments. The day will conclude with a lengthy set of decisions about Atlantic Herring. The Council is expected to select and approve final recommendations for multi-year herring fishery specifications (2013-15) and Framework Adjustment 2 to the Herring FMP (to allow consideration of seasonal quota splitting and carryover of unutilized quota). The specifications will address overfishing levels and acceptable biological catch based on Scientific and Statistical Committee advice, management uncertainty, optimum yield and a stock-wide annual catch limit (ACL) for Atlantic herring, Domestic Annual Harvest, Domestic Annual Processing, U.S. At-Sea Processing, Border Transfer, sub-ACLs (quotas) for each of four management areas, seasonal sub-ACL allocations (based on Framework 2 provisions), research set-asides, set-asides for fixed gear fisheries in the Gulf of Maine, and a range of accountability measures (AMs) for the herring fishery.

Wednesday, January 30, 2013

The Council will receive a report from the Northeast Fisheries Science Center staff summarizing the findings of the 55th Stock Assessment Workshop/Stock Assessment Review Committee meetings. The species addressed were Gulf of Maine cod and Georges Bank cod. The Council's Scientific and Statistical Committee will report on its acceptable biological catch recommendations for those two species, and possibly set ABCs for several other groundfish stocks, all for fishing years 2013-15. During the Groundfish Committee's report, the Council intends to specify ABCs and ACLs for fishing year 2013, to include consideration of a revised Southern New England/Mid-Atlantic winter flounder rebuilding plan and changes to the prohibition on landings Southern New England/Mid-Atlantic winter flounder. These measures may be adopted either through a specification package or an additional framework adjustment. Additionally, the Council will discuss and could approve a request for interim action to reduce overfishing on Gulf of Maine cod and Gulf of Maine haddock in fishing year 2013.

Thursday, January 31, 2013

The final day of the New England Council's meeting will be used to focus on further development of Draft EFH Omnibus Habitat Amendment 2. The Habitat Committee will present recommendations on Dedicated Habitat Research Areas, while the Groundfish Committee will recommend specific spatial management options to achieve groundfish objectives in the Habitat Amendment. In the absence of Groundfish Committee recommendations, the Council will receive an update from the Closed Area Technical Team and a summary of committee progress. The full Council will direct it attention to providing guidance to both committees about reconciling the two sets of options and identify next steps. The selection of alternatives to be analyzed in a Draft Environmental Impact Statement will take place at the Council's April 2013 meeting.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: January 8, 2013.
Tracey L. Thompson,
Acting Deputy Director, Office of Sustainable Fisheries, National Marine Fisheries Service.

[FR Doc. 2013-00396 Filed 1-10-13; 8:45 am]

BILLING CODE 3510-22-P